DEPARTMENT OF TRANSPORTATION

Federal Aviation Administration

14 CFR Part 39

[Docket No. FAA-2011-0058; Directorate Identifier 2010-CE-071-AD; Amendment 39-16640; AD 2011-07-03]

RIN 2120-AA64

Airworthiness Directives; Reims Aviation S.A. Model F406 Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

In early 2005, several reports had been received regarding discovery of cracks in rudder pulley brackets installed on Reims F406 aeroplanes. This pulley bracket, Part Number (P/N) 6015511-1, is installed on aeroplanes with the optional “Camera Hole” modification.

This condition, if not detected and corrected, could result in the loss of rudder control on the airplane.

We are issuing this AD to require actions to correct the unsafe condition on these products.

DATES: This AD becomes effective April 26, 2011.

On April 26, 2011, the Director of the Federal Register approved the incorporation by reference of REIMS AVIATION INDUSTRIES Service Bulletin No. F406-58, REV 2, dated July 27, 2010, listed in this AD.

As of February 13, 2007 (72 FR 3047, January 24, 2007), the Director of the Federal Register approved the incorporation by reference of REIMS AVIATION INDUSTRIES Service Bulletin No. F406-58, REV 1, dated October 27, 2006, listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

For service information identified in this AD, contact Reims Aviation Industries, Aérodrome de Reims Prunay, 51360 Prunay, France; telephone + 33 3 26 48 46 65; fax + 33 3 26 49 18 57; e-mail Jn.sirot@reims-aviation.fr. You may review copies of the referenced service information at the FAA, Small Airplane Directorate, 901 Locust, Kansas City, Missouri 64106. For information on the availability of this material at the FAA, call 816-329-4148.

FOR FURTHER INFORMATION CONTACT: Albert Mercado, Aerospace Engineer, FAA, Small Airplane Directorate, 901 Locust, Room 301, ACE-112, Kansas City, Missouri 64106; telephone: (816) 329-4119; fax: (816) 329-4090.

SUPPLEMENTARY INFORMATION:

Discussion

We issued a notice of proposed rulemaking (NPRM) to amend 14 CFR part 39 to include an AD that would apply to the specified products. That NPRM was published in the Federal Register on January 21, 2011 (76 FR 3854), and proposed to supersede AD 2007-02-12, Amendment 39-14899 (72 FR 3047, January 24, 2007). That NPRM proposed to correct an unsafe condition for the specified products. The MCAI states that:

In early 2005, several reports had been received regarding discovery of cracks in rudder pulley brackets installed on Reims F406 aeroplanes. This pulley bracket, Part Number (P/N) 6015511-1, is installed on aeroplanes with the optional “Camera Hole” modification.

This condition, if not detected and corrected, could result in the loss of rudder control on the airplane.

To address this unsafe condition, DGAC France issued Emergency (Urgent) AD UF-2005-080, followed by the final AD F-2005-080, requiring repetitive inspections of the P/N 6015511-1 rudder pulley bracket and replacement of the bracket with a modified bracket, P/N 4061-2701-1, as terminating action.

Recently, Reims discovered that aeroplane s/n F406-0091 had inadvertently not been included in the SB and this has been revised to correct the omission.

For the reasons described above, this AD retains the requirements of DGAC France AD F-2005-080, which is superseded, and adds aeroplane s/n F406-0091 to the Applicability of the AD, by referencing Revision 2 of the Reims Aviation Industries SB F406-58.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 7 products of U.S. registry. We also estimate that it will take about 11 work-hours per product to comply with the basic requirements of this AD. The average labor rate is $85 per work-hour. Required parts will cost about $750 per product.

Based on these figures, we estimate the cost of this AD to the U.S. operators to be $11,795 or $1,685 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14899 (72 FR 3047, January 24, 2007) and adding the following new AD:

2011-07-03 Reims Aviation S.A.: Amendment 39-16640; Docket No. FAA-2011-0058; Directorate Identifier 2010-CE-071-AD.

Effective Date

(a) This airworthiness directive (AD) becomes effective April 26, 2011.

Affected ADs

(b) This AD supersedes AD 2007-02-12, Amendment 39-14899.

Applicability

(c) This AD applies to REIMS AVIATION S.A. Model F406 airplanes, serial numbers (SNs) 0002, 0003, 0004, 0006, 0008, 0009, 0010, 0012, 0013, 0017, 0024, 0025, 0039, 0042, 0044, 0045, 0066, 0070, 0073, 0074, 0075, 0077, 0080 through 0092, certificated in any category.

Subject

(d) Air Transport Association of America (ATA) Code 27: Flight Controls.

Reason

(e) The mandatory continuing airworthiness information (MCAI) states:

In early 2005, several reports had been received regarding discovery of cracks in rudder pulley brackets installed on Reims F406 aeroplanes. This pulley bracket, Part Number (P/N) 6015511-1, is installed on aeroplanes with the optional “Camera Hole” modification.

This condition, if not detected and corrected, could result in the loss of rudder control on the airplane.

To address this unsafe condition, DGAC France issued Emergency (Urgent) AD UF-2005-080, followed by the final AD F-2005-080, requiring repetitive inspections of the P/N 6015511-1 rudder pulley bracket and replacement of the bracket with a modified bracket, P/N 4061-2701-1, as terminating action.

Recently, Reims discovered that aeroplane s/n F406-0091 had inadvertently not been included in the SB and this has been revised to correct the omission.

For the reasons described above, this AD retains the requirements of DGAC France AD F-2005-080, which is superseded, and adds aeroplane s/n F406- 0091 to the Applicability of the AD, by referencing Revision 2 of the Reims Aviation Industries SB F406-58.

Actions and Compliance

(f) Unless already done, do the following actions:

(1) For all affected SNs except F406-0091:

(i) Within the next 10 hours time-in-service (TIS) after February 13, 2007 (the effective date retained from AD 2007-02-12), perform the initial inspection as specified in REIMS AVIATION INDUSTRIES Service Bulletin No. F406-58, REV 1, dated October 27, 2006; or REIMS AVIATION INDUSTRIES Service Bulletin No. F406-58, REV 2, dated July 27, 2010.

(ii) If no cracking is found following the initial inspection required in paragraph (f)(1)(i) of this AD, repetitively thereafter inspect every 50 hours TIS or 1 month, whichever occurs first, until the installation of the modified pulley bracket specified in paragraphs (f)(1)(iii) or (f)(1)(iv) of this AD is done.

(iii) If any cracking is found during the inspections required in paragraphs (f)(1)(i) or (f)(1)(ii) of this AD, before further flight, install the modified pulley bracket as specified in REIMS AVIATION INDUSTRIES Service Bulletin No. F406-58, REV 1, dated October 27, 2006; or REIMS AVIATION INDUSTRIES Service Bulletin No. F406-58, REV 2, dated July 27, 2010. This installation terminates the repetitive inspections required in paragraph (f)(1)(ii) of this AD.

(iv) Within the next 100 hours TIS or 2 months after February 13, 2007 (the effective date retained from AD 2007-02-12), whichever occurs first, install the modified pulley bracket as specified in REIMS AVIATION INDUSTRIES Service Bulletin No. F406-58, REV 1, dated October 27, 2006; or REIMS AVIATION INDUSTRIES Service Bulletin No. F406-58, REV 2, dated July 27, 2010. This installation terminates the repetitive inspections required in paragraph (f)(1)(ii) of this AD.

(v) The modified pulley bracket specified in REIMS AVIATION INDUSTRIES Service Bulletin No. F406-58, REV 1, dated October 27, 2006; or REIMS AVIATION INDUSTRIES Service Bulletin No. F406-58, REV 2, dated July 27, 2010, may be installed at any time after the inspection required in paragraph (f)(1)(i) of this AD, as long as no cracking is found, but no later than the compliance time specified in paragraph (f)(1)(iv) of this AD. If cracking is found, it must be replaced before further flight as required in paragraph (f)(1)(iii) of this AD.

(2) For serial number F406-0091:

(i) Within the next 10 hours TIS after April 26, 2011 (the effective of this AD), perform the initial inspection as specified in REIMS AVIATION INDUSTRIES Service Bulletin No. F406-58, REV 2, dated July 27, 2010.

(ii) If no cracking is found following the initial inspection required in paragraph (f)(2)(i) of this AD, repetitively thereafter inspect every 50 hours TIS or 1 month, whichever occurs first, until the installation of the modified pulley bracket specified in paragraphs (f)(2)(iii) or (f)(2)(iv) of this AD is done.

(iii) If any cracking is found during the inspections required in paragraph (f)(2)(i) or (f)(2)(ii) of this AD, before further flight, install the modified pulley bracket as specified in REIMS AVIATION INDUSTRIES Service Bulletin No. F406-58, REV 2, dated July 27, 2010. This installation terminates the repetitive inspections required in paragraph (f)(2)(ii) of this AD.

(iv) Within the next 100 hours TIS or 2 months after April 26, 2011 (the effective date of this AD), whichever occurs first, install the modified pulley bracket as specified in REIMS AVIATION INDUSTRIES Service Bulletin No. F406-58, REV 2, dated July 27, 2010. This installation terminates the repetitive inspections required in paragraph (f)(2)(ii) of this AD.

(v) The modified pulley bracket specified in REIMS AVIATION INDUSTRIES Service Bulletin No. F406-58, REV 2, dated July 27, 2010, may be installed at any time after the inspection required in paragraph (f)(2)(i) of this AD as long as no cracking is found, but no later than the compliance time specified in paragraph (f)(2)(iv) of this AD. If cracking is found, it must be replaced before further flight as required in paragraph (f)(2)(iii) of this AD.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to Attn: Albert Mercado, Aerospace Engineer, FAA, Small Airplane Directorate, 901 Locust, Room 301, Kansas City, Missouri 64106; telephone: (816) 329-4119; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(h) Refer to MCAI European Aviation Safety Agency (EASA) AD 2010-0230, dated November 5, 2010; REIMS AVIATION INDUSTRIES Service Bulletin No. F406-58, REV 1, dated October 27, 2006; and REIMS AVIATION INDUSTRIES Service Bulletin No. F406-58, REV 2, dated July 27, 2010, for related information. For service information related to this AD, contact Reims Aviation Industries, Aérodrome de Reims Prunay, 51360 Prunay, France; telephone + 33 3 26 48 46 65; fax + 33 3 26 49 18 57; e-mail Jn.sirot@reims-aviation.fr. You may review copies of the referenced service information at the FAA, Small Airplane Directorate, 901 Locust, Kansas City, Missouri 64106. For information on the availability of this material at the FAA, call 816-329-4148.

Material Incorporated by Reference

(h) You must use REIMS AVIATION INDUSTRIES Service Bulletin No. F406-58, REV 1, dated October 27, 2006; and REIMS AVIATION INDUSTRIES Service Bulletin No. F406-58, REV 2, dated July 27, 2010, to do the actions required by this AD, unless the AD specifies otherwise.

(1) The Director of the Federal Register approved the incorporation by reference of REIMS AVIATION INDUSTRIES Service Bulletin No. F406-58, REV 2, dated July 27, 2010, under 5 U.S.C. 552(a) and 1 CFR part 51.

(2) On February 13, 2007 (72 FR 3047, January 24, 2007), the Director of the Federal Register previously approved the incorporation by reference of REIMS AVIATION INDUSTRIES Service Bulletin No. F406-58, REV 1, dated October 27, 2006.

(3) For service information identified in this AD, contact Reims Aviation Industries, Aérodrome de Reims Prunay, 51360 Prunay, France; telephone + 33 3 26 48 46 65; fax + 33 3 26 49 18 57; e-mail Jn.sirot@reims-aviation.fr.

(4) You may review copies of the referenced service information at the FAA, Small Airplane Directorate, 901 Locust, Kansas City, Missouri 64106. For information on the availability of this material at the FAA, call 816-329-4148.

(5) You may also review copies of the service information incorporated by reference for this AD at the National Archives and Records Administration (NARA). For information on the availability of this material at NARA, call (202) 741-6030, or go to: http://www.archives.gov/federal_register/code_of_federal_regulations/ibr_locations.html.

Issued in Kansas City, Missouri, on March 14, 2011.
Earl Lawrence,
Manager, Small Airplane Directorate, Aircraft Certification Service.

[FR Doc. 2011-6371 Filed 3-21-11; 8:45 am]

BILLING CODE 4910-13-P